DEPARTMENT OF TRANSPORTATION

Federal Aviation Administration

14 CFR Part 71

[Docket No. FAA-2014-0199; Airspace Docket No. 14-AGL-9]

Proposed Amendment of Class E Airspace; North Dakota

AGENCY: Federal Aviation Administration (FAA), DOT.

ACTION: Notice of proposed rulemaking (NPRM); withdrawal.

SUMMARY: This action withdraws the NPRM published in the Federal Register on May 6, 2014 proposing to amend Class E airspace in the State of North Dakota. The FAA has determined that withdrawal of the NPRM is warranted as additional analysis is needed.

DATES: The proposed rule published May 6, 2014 (79 FR 25757) is withdrawn as of June 15, 2015.

FOR FURTHER INFORMATION CONTACT: Raul Garza, Jr., Central Service Center, Operations Support Group, Federal Aviation Administration, Northwest Region, 2601 Meacham Blvd., Fort Worth, TX 76137; telephone: 817-222-4075.

SUPPLEMENTARY INFORMATION: An NPRM was published in the Federal Register of May 6, 2014 (79 FR 25757) to amend Title 14 Code of Federal Regulations (14 CFR) part 71 by amending Class E airspace extending upward from 1,200 feet above the surface in the State of North Dakota, to enable Minneapolis ARTCC to have greater latitude to use radar vectors and/or altitude changes that would provide a more efficient use of airspace within the NAS. Additional analysis is needed; therefore, the NPRM is being withdrawn.

List of Subjects in 14 CFR Part 71

Airspace, Incorporation by reference, Navigation (air).

The Withdrawal

In consideration of the foregoing, the NPRM for FR Doc. FAA-2014-0199, Airspace Docket No. 14-AGL-9, as published in the Federal Register of May 6, 2014 (79 FR 25757) (FR Doc. 2014-10391), is hereby withdrawn.

Authority: 49 U.S.C. 106(f), 106(g) 40103, 40113, 40120; E.O. 10854; 24 FR 9565, 3 CFR, 1959-1963 Comp., p. 389.

Issued in Fort Worth, TX, on May 26, 2015.
Robert W. Beck,
Manager, Operations Support Group, ATO Central Service Center.

[FR Doc. 2015-14302 Filed 6-12-15; 8:45 am]

BILLING CODE 4910-13-P